CONSUMER PRODUCT SAFETY COMMISSION

Sunshine Act; Notice of Meeting

TIME AND DATE: Wednesday, June 30, 2010; 11 a.m.-12 Noon.

PLACE: Hearing Room 420, Bethesda Towers, 4330 East West Highway, Bethesda, Maryland.

STATUS: Closed to the public.

Matters to be Considered:

Compliance Status Report

The Commission staff will brief the Commission on the status of compliance matters.

For a recorded message containing the latest agenda information, call (301) 504-7948.

CONTACT PERSON FOR MORE INFORMATION: Todd A. Stevenson, Office of the Secretary, U.S. Consumer Product Safety Commission, 4330 East West Highway, Bethesda, MD 20814, (301) 504-7923.

Dated: June 21, 2010.
Todd A. Stevenson,
Secretary.

[FR Doc. 2010-15512 Filed 6-22-10; 4:15 pm]

BILLING CODE 6355-01-P